ENVIRONMENTAL PROTECTION AGENCY

[FRL-12428-01-R6]

Clean Air Act Operating Permit Program: Order on Petitions for Objection to State Operating Permit for Flint Hills Resources Ingleside LLC, San Patricio County, Texas

AGENCY: Environmental Protection Agency (EPA).

ACTION: Notice of final order on petition.

SUMMARY: The Environmental Protection Agency (EPA) Administrator signed an Order dated November 14, 2024, granting in part and denying in part two petitions dated July 10, 2024 (collectively the Petitions), from the Environmental Integrity Project, Ingleside on the Bay Coastal Watch Association, and TCHD Consulting LLC (the Petitioners). The Petitions requested that the EPA object to a Clean Air Act (CAA) title V operating permit issued by the Texas Commission on Environmental Quality (TCEQ) to Flint Hills Resources LLC, for its Ingleside Terminal located in San Patricio County, Texas.

FOR FURTHER INFORMATION CONTACT: Jonathan Ehrhart, EPA Region 6 Office, Air Permits Section, (214) 665-2295, ehrhart.jonathan@epa.gov. The final order and petitions are available electronically at: https://www.epa.gov/title-v-operating-permits/title-v-petition-database.

SUPPLEMENTARY INFORMATION: The EPA received two petitions from Environmental Integrity Project, Ingleside on the Bay Coastal Watch Association, and TCHD Consulting LLC dated July 10, 2024, requesting that the EPA object to the issuance of operating permit No. O3454, issued by TCEQ to Flint Hills Resources LLC, for its Ingleside Terminal located in San Patricio County, Texas. On November 14, 2024, the EPA Administrator issued an Order granting in part and denying in part the petitions. The order itself explains the basis for the EPA's decision.

Sections 307(b) and 505(b)(2) of the CAA provide that a petitioner may request judicial review of those portions of an order that deny issues in a petition. Any petition for review shall be filed in the United States Court of Appeals for the appropriate circuit no later than January 27, 2025.

Dated: November 21, 2024.
David Garcia,
Director, Air and Radiation Division, Region 6.

[FR Doc. 2024-27732 Filed 11-26-24; 8:45 am]

BILLING CODE 6560-50-P